DEPARTMENT OF THE INTERIOR

Fish and Wildlife Service

Issuance of Permit for Marine Mammals

On May 22, 2000, a notice was published in the Federal Register, Vol. 65, No. 99, Page 32121, that an application had been filed with the Fish and Wildlife Service by Darrell W. Hindman, St. Louis, MO, for a permit (PRT-027204) to import a sport-hunted polar bear (Ursus maritimus) trophy, taken from the Northern Beaufort Sea polar bear population, Canada for personal use.

Notice is hereby given that on August 9, 2000, as authorized by the provisions of the Marine Mammal Protection Act of 1972, as amended (16 U.S.C. 1361 et seq.) the Fish and Wildlife Service authorized the requested permit subject to certain conditions set forth therein.

On July 7, 2000, a notice was published in the Federal Register, Vol. 65, No. 131, Page 42024, that an application had been filed with the Fish and Wildlife Service by W. Stephen Minore, Rockford, IL, for a permit (PRT-029703) to import a sport-hunted polar bear (Ursus maritimus) trophy, taken from the McClintock Channel polar bear population, Canada for personal use.

Notice is hereby given that on August 9, 2000, as authorized by the provisions of the Marine Mammal Protection Act of 1972, as amended (16 U.S.C. 1361 et seq.) the Fish and Wildlife Service authorized the requested permit subject to certain conditions set forth therein.

On February 10, 2000, a notice was published in the Federal Register, Vol. 65, No. 28, Page 6618, that an application had been filed with the Fish and Wildlife Service by Horst J. Baier, Miami Beach, FL, for a permit (PRT-022027) to import a sport-hunted polar bear (Ursus maritimus) trophy, taken from the Southern Beaufort Sea polar bear population, Canada for personal use.

Notice is hereby given that on August 9, 2000, as authorized by the provisions of the Marine Mammal Protection Act of 1972, as amended (16 U.S.C. 1361 et seq.) the Fish and Wildlife Service authorized the requested permit subject to certain conditions set forth therein.

On May 11, 2000, a notice was published in the Federal Register, Vol. 65, No. 92, Page 30425, that an application had been filed with the Fish and Wildlife Service by David B. Hartman, Canfield, OH, for a permit (PRT-026772) to import a sport-hunted polar bear (Ursus maritimus) trophy, taken from the Southern Beaufort Sea polar bear population, Canada for personal use.

Notice is hereby given that on August 4, 2000, as authorized by the provisions of the Marine Mammal Protection Act of 1972, as amended (16 U.S.C. 1361 et seq.) the Fish and Wildlife Service authorized the requested permit subject to certain conditions set forth therein.

Dated: August 18, 2000.
Charlie Chandler,
International Chief, Branch of Permits, Office of Management Authority.

[FR Doc. 00-21690 Filed 8-23-00; 8:45 am]

BILLING CODE 4310-55-P